DEPARTMENT OF TRANSPORTATION

Federal Aviation Administration

14 CFR Part 39

[Docket No. 2003-NE-54-AD; Amendment 39-13802; AD 2004-19-08]

RIN 2120-AA64

Airworthiness Directives; Rolls-Royce plc RB211 Trent 800 Series Turbofan Engines

AGENCY: Federal Aviation Administration (FAA), DOT.

ACTION: Final rule.

SUMMARY: The FAA is adopting a new airworthiness directive (AD) for Rolls-Royce plc (RR) RB211 Trent 800 series turbofan engines. This AD requires revising the Time Limits Manual for RR RB211 Trent 800 series turbofan engines. These revisions include required enhanced inspection of selected critical life-limited parts at each piece-part exposure. This AD results from the need to require enhanced inspection of selected critical life-limited parts of RB211 Trent 800 series turbofan engines. We are issuing this AD to prevent failure of critical life-limited rotating engine parts, which could result in an uncontained engine failure and damage to the airplane.

DATES: This AD becomes effective October 27, 2004.

ADDRESSES: You can get the service information identified in this AD from Rolls-Royce plc, P.O. Box 31, Derby, DE24 8BJ, United Kingdom; telephone: 011-44-1332-242424; fax: 011-44-1332-249936.

You may examine the AD docket at the FAA, New England Region, Office of the Regional Counsel, 12 New England Executive Park, Burlington, MA.

FOR FURTHER INFORMATION CONTACT: Christopher Spinney, Aerospace Engineer, Engine Certification Office, FAA, Engine and Propeller Directorate, 12 New England Executive Park, Burlington, MA 01803-5299; telephone (781) 238-7175, fax (781) 238-7199.

SUPPLEMENTARY INFORMATION: The FAA proposed to amend 14 CFR part 39 with a proposed AD. The proposed AD applies to RR RB211 Trent 800 series turbofan engines. We published the proposed AD in the Federal Register on March 4, 2004 (69 FR 10179). That action proposed to require revising the Time Limits Manual for RR RB211 Trent 800 series turbofan engines to include required enhanced inspection of selected critical life-limited parts at each piece-part exposure.

Examining the AD Docket

You may examine the AD Docket (including any comments and service information), by appointment, between 8 a.m. and 4:30 p.m., Monday through Friday, except Federal holidays. See ADDRESSES for the location.

Comments

We provided the public the opportunity to participate in the development of this AD. We received no comments on the proposal or on the determination of the cost to the public.

Conclusion

We have carefully reviewed the available data and determined that air safety and the public interest require adopting the AD as proposed.

Costs of Compliance

There are about 350 engines of the affected design in the worldwide fleet. We estimate that 90 engines installed on airplanes of U.S. registry are affected by this AD. We also estimate that it will take about 75 work hours per engine to perform the inspections, and that the average labor rate is $65 per work hour. Since this is an added inspection requirement, included as part of the normal maintenance cycle, no additional part costs are involved. Based on these figures, the total cost impact of the AD on U.S. operators is estimated to be $438,750.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-54-AD” in your request.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2004-19-08 Rolls-Royce plc: Amendment 39-13802. Docket No. 2003-NE-54-AD.

Effective Date

(a) This AD becomes effective October 27, 2004.

Affected ADs

(b) None.

Applicability

(c) This AD applies to Rolls-Royce plc (RR) RB211 Trent 800 series turbofan engines. These engines are installed on, but not limited to, Boeing 777 airplanes.

Unsafe Condition

(d) This AD results from the need to require enhanced inspection of selected critical life-limited parts of RB211 Trent 800 series turbofan engines. The actions specified in this AD are intended to prevent critical life-limited rotating engine part failure, which could result in an uncontained engine failure and damage to the airplane.

Compliance

(e) You are responsible for having the actions required by this AD performed within the compliance times specified unless the actions have already been done.

(f) Within the next 40 days after the effective date of this AD, revise the Time Limits Manual (TLM), and for air carrier operations revise the approved continuous airworthiness maintenance program, by adding the following:

“GROUP A PARTS MANDATORY INSPECTION

(1) Inspections referred to as ‘Focus Inspect’ in the applicable Engine Manual inspection Task are mandatory inspections for the components given below, when the conditions that follow are satisfied:

(i) When the component has been completely disassembled to piece-part level as given in the applicable disassembly procedures contained in the Engine Manual; and

(ii) The part has more than 100 recorded flight cycles in operation since the last piece-part inspection. or

(iii) The component removal was for damage or a cause directly related to its removal; or

(iv) Where serviceable used components, for which the inspection history is not fully known, are to be used again.

(2) The list of Group A Parts is specified below:

Part nomenclature | Part number | Inspected per overhaul manual task
Low Pressure Compressor Rotor Disc | All | 72-31-16-200-801
Low Pressure Compressor Rotor Shaft | All | 72-31-20-200-801
Intermediate Pressure Compressor Rotor Shaft | All | 72-32-31-200-801
Intermediate Pressure Rear Shaft | All | 72-33-21-200-801
High Pressure Compressor Stage 1 to 4 Rotor Discs Shaft | All | 72-41-31-200-801
High Pressure Compressor Stage 5 & 6 Discs and Cone | All | 72-41-31-200-802
High Pressure Turbine Rotor Disc | All | 72-41-51-200-801
Intermediate Pressure Turbine Rotor Disc | All | 72-51-31-200-801
Intermediate Pressure Turbine Rotor Shaft | All | 72-51-33-200-801
Low Pressure Turbine Stage 1 Rotor Disc | All | 72-52-31-200-801
Low Pressure Turbine Stage 2 Rotor Disc | All | 72-52-31-200-802
Low Pressure Turbine Stage 3 Rotor Disc | All | 72-52-31-200-803
Low Pressure Turbine Stage 4 Rotor Disc | All | 72-52-31-200-804
Low Pressure Turbine Stage 5 Rotor Disc | All | 72-52-31-200-805
Low Pressure Turbine Rotor Shaft | All | 72-52-33-200-801”

Alternative Methods of Compliance

(g) You must perform these mandatory inspections using the TLM and the applicable Engine Manual unless you receive approval to use an alternative method of compliance under paragraph (h) of this AD. Section 43.16 of the Federal Aviation Regulations (14 CFR 43.16) may not be used to approve alternative methods of compliance or adjustments to the times in which these inspections must be performed.

(h) The Manager, Engine Certification Office, has the authority to approve alternative methods of compliance for this AD if requested using the procedures found in 14 CFR 39.19.

Maintaining Records of the Mandatory Inspections

(i) You have met the requirements of this AD by using a TLM changed as specified in paragraph (f) of this AD, and, for air carriers operating under part 121 of the Federal Aviation Regulations (14 CFR part 121), by modifying your continuous airworthiness maintenance plan to reflect those changes. You must maintain records of the mandatory inspections that result from those changes to the TLM according to the regulations governing your operation. You do not need to record each piece-part inspection as compliance to this AD. For air carriers operating under part 121, you may use either the system established to comply with section 121.369 or use an alternative system that your principal maintenance inspector has accepted if that alternative system:

(1) Includes a method for preserving and retrieving the records of the inspections resulting from this AD; and

(2) Meets the requirements of section 121.369(c); and

(3) Maintains the records either indefinitely or until the work is repeated.

(j) These record keeping requirements apply only to the records used to document the mandatory inspections required as a result of revising the Time Limits Manual as specified in paragraph (f) of this AD, and do not alter or amend the record keeping requirements for any other AD or regulatory requirement.

Material Incorporated by Reference

(k) None.

Related Information

(l) Civil Aviation Authority (CAA) airworthiness directive No. G-2003-0003, dated November 25, 2003, also addresses the subject of this AD.

Issued in Burlington, Massachusetts, on September 15, 2004.
Jay J. Pardee,
Manager, Engine and Propeller Directorate, Aircraft Certification Service.

[FR Doc. 04-21270 Filed 9-21-04; 8:45 am]

BILLING CODE 4910-13-P[?USGPO Galley End:?]